DEPARTMENT OF HEALTH AND HUMAN SERVICES

Centers for Disease Control and Prevention

Notice of Award of a Single-Source Cooperative Agreement To Fund the Ministerio de Salud de la República de Panamá (MINSA)

AGENCY: Centers for Disease Control and Prevention (CDC), Department of Health and Human Services (HHS).

ACTION: Notice.

SUMMARY: The Centers for Disease Control and Prevention (CDC), located within the Department of Health and Human Services (HHS), announces the award of approximately $10,000,000 for Year 1 of funding to the Ministerio de Salud de la República de Panamá {MINSA}. The award will contribute to the achievement of 95-95-95 targets (95% of HIV-positive individuals knowing their status, 95% of those receiving ART [Antiretroviral therapy], and 95% of those achieving viral suppression) in Panama by introducing or scaling up high-impact HIV prevention, testing, linkage, and treatment models across the continuum of care and strengthening HIV laboratory and information systems. Funding amounts for years 2-5 will be set at continuation.

DATES: The period for this award will be September 30, 2022 through September 29, 2027.

FOR FURTHER INFORMATION CONTACT: Lily de Leon, Center for Global Health, Centers for Disease Control and Prevention, 18 Avenida 11-37, Zona 15, VHIII, Telephone: 800-232-6348, Email: izo0@cdc.gov.

SUPPLEMENTARY INFORMATION: The single-source award will include key HIV prevention and diagnosis activities: Index testing, differentiated service modalities at key population testing facilities, self-testing, Pre-Exposure Prophylaxis (PreP), rapid recency testing and response to clusters of recent transmission, and linkage to treatment for newly diagnosed individuals in Panama. Additionally, key HIV treatment activities will include linkage to care registries, early treatment initiation, differentiated service delivery models, opportunistic infection diagnosis and treatment, lost-to follow-up reengagement, quality assurance in Viral Load (VL) networks, and drug resistance monitoring.

MINSA is in a unique position to conduct this work, as it is the sole organization authorized to oversee the regions and medical sanitary areas covered by health institutions deemed to be scattered and decentralized in Panama. Since its creation in 1969, MINSA has served to streamline programs within these areas by setting up satellite systems in which higher ranking institutions are responsible for coordinating collaboration between medical-sanitary area officials, urban doctors, and the general hospital staff of these complex institutions.

Summary of the Award

Recipient: Ministerio de Salud de la República de Panamá (MINSA).

Purpose of the Award: The purpose of this award is to contribute to the achievement of 95-95-95 targets in Panama by introducing or scaling up high-impact HIV prevention, testing, linkage, and treatment models across the continuum of care and strengthening HIV laboratory and information systems.

Amount of Award: The approximate year 1 funding amount will be $10,000,000 in Federal Fiscal Year (FFY) 2022 funds, subject to the availability of funds. Fund amounts for years 2-5 will be set at continuation.

Authority: This program is authorized under Public Law 108-25 (the United States Leadership Against HIV AIDS, Tuberculosis and Malaria Act of 2003).

Period of Performance: September 30, 2022 through September 29, 2027.

Dated: February 1, 2022.
Terrance Perry,
Chief Grants Management Officer, Centers for Disease Control and Prevention.

[FR Doc. 2022-02406 Filed 2-3-22; 8:45 am]

BILLING CODE 4163-18-P